DEPARTMENT OF COMMERCE

National Oceanic and Atmospheric Administration

RIN 0649-XG065

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day meeting of its Standing, Reef Fish, Shrimp, and Socioeconomics Scientific and Statistical Committees (SSC).

DATES: The meeting will convene on Monday, March 26, 2018, from 1 p.m. to 5 p.m., and Tuesday, March 27, 2018, from 8:30 a.m. to 12 noon, EDT.

ADDRESSES: The meeting will be held in the Gulf of Mexico Fishery Management Council's Conference Room, 2203 N Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Day 1—Monday, March 26, 2018; 1 p.m.-5 p.m.

I. Introductions and Adoption of Agenda

II. Approval of Minutes

a. January 9-10, 2018 Standing, Coral, Socioeconomic, and Reef Fish SSC summary

b. March 27-29, 2017 Standing, Shrimp, Reef Fish, and Socioeconomic SSC summary

III. Selection of SSC Representative at April 16-20, 2018 Council Meeting in Gulfport, MS

Standing, Socioeconomic, and Shrimp SSC Session

IV. Stock Status Review—

a. Brown shrimp

b. Pink shrimp

c. White shrimp

V. Update on the Economic Analysis Requested by Council

a. Letter sent to Dr. Ponwith—log stamp 6631

b. NMFS response—log stamp 6660

Standing and Socioeconomic SSC Session

VI. Grouper/Tilefish IFQ Program 5-year Review

Standing and Reef Fish SSC Session

VII. 5-year Review on Inclusion/Exclusion of Species and Species Groupings in Fishery Management Plans

Day 2—Tuesday, March 27, 2018; 8:30 a.m.-12 p.m.

VIII. Further Development of a Stock Assessment Prioritization Spreadsheet

IX. Update on MRIP Fishing Effort Survey and Status of Certification of State Data Collection Programs

X. Habitat Mapping and Characterization on the West Florida Shelf

XI. Tentative 2018 SSC Meeting Dates

XII. Other Business

You may register for the SSC Meeting: Standing, Reef Fish, Shrimp, and Socioeconomic on March 26-27, 2018 at: https://attendee.gotowebinar.com/register/3268270115077294082.

The Agenda is subject to change, and the latest version along with other meeting materials will be posted on the Council's file server. To access the file server, the URL is https://public.gulfcouncil.org:5001/webman/index.cgi, or go to the Council's website and click on the FTP link in the lower left of the Council website (http://www.gulfcouncil.org). The username and password are both “gulfguest”. Click on the “Library Folder”, then scroll down to “SSC meeting—2018-03”.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: March 7, 2018.
Tracey L. Thompson,
Acting Deputy Director, Office of Sustainable Fisheries, National Marine Fisheries Service.

[FR Doc. 2018-04867 Filed 3-9-18; 8:45 am]

BILLING CODE 3510-22-P